DEPARTMENT OF STATE

[Public Notice Number: 6372]

U.S. Advisory Commission on Public Diplomacy; Notice of Meeting

The U.S. Advisory Commission on Public Diplomacy has rescheduled its public meeting to March 15, 2010 from 9 a.m. to 11 a.m. in the conference room of the International Foundation for Electoral Systems (IFES) located at 1850 K Street, NW., Fifth Floor, Washington, DC 20006. This will replace the previously scheduled February 11 meeting (canceled due to inclement weather) at the same location.

The Commissioners will discuss public diplomacy issues, including interagency collaboration in advancing U.S. government public diplomacy efforts.

The Commission is a bipartisan panel created by Congress in 1948 to assess public diplomacy policies and programs of the U.S. government and of publicly funded nongovernmental organizations. The Commission reports its findings and recommendations to the President, the Congress, the Secretary of State, and the American people.

The public may attend this meeting as seating capacity allows. To attend this meeting and for further information, please contact Carl Chan at (202) 632-2823; e-mail: chanck@state.gov. Any member of the public requesting reasonable accommodation at this meeting should contact Mr. Chan prior to March 8th. Requests received after that date will be considered, but might not be possible to fulfill.

Dated: February 16, 2010.
Carl Chan,
Executive Director, ACPD.

[FR Doc. 2010-3563 Filed 2-22-10; 8:45 am]

BILLING CODE 4710-11-P